DEPARTMENT OF THE INTERIOR

Fish and Wildlife Service

[FWS-R6-ES-2013-N216; FXES11130600000-145-FF06E00000]

Endangered and Threatened Wildlife and Plants; Revised Recovery Plan for the Black-Footed Ferret

AGENCY: Fish and Wildlife Service, Interior.

ACTION: Notice of document availability.

SUMMARY: The U.S. Fish and Wildlife Service (Service) announces the availability of a revised recovery plan for the black-footed ferret (Mustela nigripes). This species is federally listed as endangered under the Endangered Species Act of 1973, as amended (Act).

ADDRESSES: Electronic copies of the recovery plan are available online at http://www.fws.gov/endangered/species/recovery-plans.html. Paper copies of the revised recovery plan are available by request from the National Black-footed Ferret Conservation Center, U.S. Fish and Wildlife Service, P.O. Box 190, Wellington, CO 80549; telephone 970-897-2730.

FOR FURTHER INFORMATION CONTACT: Pete Gober, National Black-footed Ferret Recovery Coordinator, at the above address or telephone (see ADDRESSES).

SUPPLEMENTARY INFORMATION:

Background

Recovering an endangered or threatened animal or plant to the point where it is again a secure, sustainable member of its ecosystem is a primary goal of the Service's endangered species program. To help guide the recovery effort, the Service prepares recovery plans for the federally listed species native to the United States where a plan will promote the conservation of the species. Recovery plans describe site-specific actions necessary for the conservation of the species; establish objective, measurable criteria which, when met, would result in a determination that the species no longer needs the protection of the Act (16 U.S.C. 1531 et seq.); and provide estimates of the time and cost for implementing the needed recovery measures.

The Act requires recovery plans for listed species unless such a plan would not promote the conservation of a particular species. Section 4(f)(4) of the Act requires that public notice and opportunity for public review and comment be provided during recovery plan development. We made the draft recovery plan available for public comment and peer review from April 23, 2013, to June 24, 2013 (78 FR 23948). We have considered all information received during the public comment and peer review period in the preparation of the final revised recovery plan for the black-footed ferret. The Service and other Federal agencies will take these comments and reviews into consideration in the course of implementing the final approved recovery plan for the black-footed ferret. In this final revised plan, we have summarized and responded to the issues raised by both the public and the requested peer reviewers in an appendix to the plan, and incorporated changes to the plan as appropriate.

The black-footed ferret (Mustela nigripes) was historically found throughout the Great Plains, mountain basins, and semi-arid grasslands of North America wherever prairie dogs occurred. The species was listed as endangered in 1967 (32 FR 4001, March 11, 1967) under the Endangered Species Preservation Act of 1966 and again in 1970 under the Endangered Species Conservation Act of 1969 (35 FR 8491, June 2, 1970). On January 4, 1974, the black-footed ferret was listed under the Endangered Species Act of 1973 (39 FR 1171). The ferret's close association with prairie dogs was an important factor in the ferret's decline. From the late 1800s to approximately the 1960s, prairie dog-occupied habitat and prairie dog numbers were dramatically reduced by the effects of both temporal and permanent habitat loss caused by conversion of native grasslands to cropland, poisoning, and disease. The ferret population declined precipitously as a result.

The recovery of the black-footed ferret will be achieved by establishing a number of ferret populations where appropriate habitat exists and by ameliorating threats impacting the species so as to allow the ferret's persistence. Although ferret habitat has been dramatically reduced from historical times, a sufficient amount remains if its quality and configuration is appropriately managed. This management, for the most part, is likely to be conducted by State, Tribal, and Federal fish and wildlife and land management agencies. Additionally, private parties, including landowners and conservation organizations, are key for ferret recovery. Many partners contributing to ferret recovery in many places will help minimize the risk of a significant loss of wild populations.

Specifically, recovery of black-footed ferrets will depend upon: (1) Continued efforts of captive breeding facilities to provide suitable animals for release into the wild; (2) conservation of prairie dog habitat adequate to sustain ferrets in several populations distributed throughout their historical range; and (3) management of sylvatic plague. The single, most feasible action that would benefit black-footed ferret recovery is to improve prairie dog conservation. If efforts are undertaken to more proactively manage existing prairie dog habitat for ferret recovery, all other threats to the species will be substantially less difficult to address. Downlisting of the black-footed ferret could be accomplished in approximately 10 years if conservation actions continue at existing reintroduction sites and if additional reintroduction sites are established. Delisting will be possible if more intensive reintroduction efforts are conducted.

Authority

The authority for this action is section 4(f) of the Endangered Species Act, 16 U.S.C. 1533(f).

Dated: November 8, 2013.
Matt Hogan,
Acting Regional Director, Denver, CO.

[FR Doc. 2013-30481 Filed 12-20-13; 8:45 am]

BILLING CODE 4310-55-P